DEPARTMENT OF COMMERCE

International Trade Administration

[A-570-986]

Hardwood and Decorative Plywood From the People's Republic of China: Antidumping Duty Investigation; Correction and Postponement of Final Determination

AGENCY: Import Administration, International Trade Administration, Department of Commerce.

DATES: Effective Date: June 3, 2013

FOR FURTHER INFORMATION CONTACT: Catherine Bertrand or Katie Marksberry at (202) 482-3207 or (202) 482-7906, respectively, AD/CVD Operations, Office 9, Import Administration, International Trade Administration, U.S. Department of Commerce, 14th Street and Constitution Avenue NW., Washington, DC 20230.

Background: The Department of Commerce (“the Department”) published a notice in the Federal Register on May 3, 2013, concerning the preliminary determination in the antidumping duty investigation of hardwood and decorative plywood from the People's Republic of China.¹

¹ See Hardwood and Decorative Plywood From the People's Republic of China: Antidumping Duty Investigation, 78 FR 25946 (May 3, 2013) (“Preliminary Determination”).

SUPPLEMENTARY INFORMATION:

Correction of Federal Register Notice

The Preliminary Determination listed the combination rates for the respondents which were found to be eligible for a separate rate in this investigation. The Department inadvertently failed to list one supplier for Jiaxing Gsun Imp. & Exp. Co., Ltd. which should have received a separate rate.² The combination rate which should have been included in the Preliminary Determination is listed below. This combination is in addition to the rates which were published in the Preliminary Determination and does not replace any previously published combination rates. Additionally, the Department will issue instructions to Customs and Border Protection correcting the suspension of liquidation instructions that were issued pursuant to the publication of the Preliminary Determination to include the below combination rate.

² See Memorandum to James C. Doyle, Director, Office 9, through Catherine Bertrand, Program Manager, Office 9, from Katie Marksberry, Senior International Trade Specialist, Office 9; Re: Antidumping Duty Investigation of Hardwood and Decorative Plywood from the People's Republic of China: Analysis of Ministerial Error Allegations, dated concurrently with this notice.

Exporter | Producer | Percent margin
Jiaxing Gsun Imp. & Exp. Co., Ltd | Linyi Qunxiang Wood Co., Ltd | 22.14

Postponement of the Final Determination

The Preliminary Determination stated that the Department would issue its final determination no later than 75 days after the date of publication of the Preliminary Determination, in accordance with section 773(a)(1) of the Tariff Act of 1930, as amended (“the Act”). The final determination is currently due no later than July 17, 2013.

On April 3, 2013, Xuzhou Jiangyang Wood Industries Co. Ltd, and Xuzhou Jiangheng Wood Products Co. Ltd, and Linyi San Fortune Wood Co. Ltd (collectively, “Respondents”), requested, pursuant to 19 CFR 351.210(b), a postponement of the final determination and an extension of provisional measures.³ In accordance with sections 733(d) and 735 (a)(2)(A) of the Act and 19 CFR 351.210(b)(2)(ii) and (e), because (1) our preliminary determination is affirmative, (2) the requesting exporters account for a significant proportion of exports of the subject merchandise, and (3) no compelling reasons for denial exist, we are granting the requests and are postponing the final determination until no later than 135 days after the publication of the Preliminary Determination. Suspension of liquidation will be extended accordingly.

³ See Letter to the Department, from Respondents, Re: Request for Extension of Final Determination, dated April 3, 2013; see also Memorandum to The File, from Katie Marksberry, Senior International Trade Analyst, Re: Phone Call Regarding Clarification of Respondent's Request for an Extension of the Final Determination, dated April 3, 2013.

An extension of 50 days from the current deadline of July 17, 2013, would result in a new deadline of September 5, 2013.

Dated: May 28, 2013.
Ronald K. Lorentzen,
Acting Assistant Secretary for Import Administration.

[FR Doc. 2013-13081 Filed 5-31-13; 8:45 a.m.]

BILLING CODE 3510-DS-P